DEPARTMENT OF HOUSING AND URBAN DEVELOPMENT

[Docket No. FR-6157-N-01]

Agenda and Notice of Public Meeting of the Moving to Work Research Advisory Committee

AGENCY: Office of the Assistant Secretary for Public and Indian Housing, and Office of the Assistant Secretary for Policy Development and Research, HUD.

ACTION: Notice of a federal advisory committee meeting.

SUMMARY: This notice sets forth the schedule and proposed agenda for a meeting of the Moving to Work (MTW) Research Advisory Committee (Committee). The Committee meeting will be held via conference call on Tuesday, April 30, 2019. The meeting is open to the public and is accessible to individuals with disabilities.

DATES: The teleconference meeting will be held on April 30, 2019 from 1:00 p.m. to 4:00 p.m. Eastern Standard Time (EDT).

FOR FURTHER INFORMATION CONTACT: Eva Fontheim, Office of Public and Indian Housing, Department of Housing and Urban Development, 451 7th Street SW, Room 4126, Washington, DC 20410, telephone (202) 402-3461 (this is not a toll-free number). Persons who have difficulty hearing or speaking may access this number via TTY by calling the toll-free Federal Relay Service at (800) 877-8339 or can email: MTWAdvisoryCommittee@hud.gov.

SUPPLEMENTARY INFORMATION: Notice of this meeting is provided in accordance with the Federal Advisory Committee Act, 5. U.S.C. App. 10(a)(2). The Committee was established on May 2, 2016, to advise HUD on specific policy proposals and methods of research and evaluation related to the expansion of the MTW demonstration to an additional 100 Public Housing Authorities (PHAs). See 81 FR 24630. HUD has previously convened two conference call meetings of the Committee on July 26 and 28, 2016, a two-day in-person meeting on September 1 and 2, 2016, and follow-up conference call meetings on December 13, 2016 and January 25, 2018. The Committee also convened on October 10, 2018. The minutes of these meetings are available on the HUD website at: https://www.hud.gov/program_offices/public_indian_housing/programs/ph/mtw/expansion/rac.

HUD is now convening a 3-hour conference call to explore the possibility of adding an additional cohort policy study. HUD will convene the meeting on Tuesday, April 30, 2019 via teleconference from 1:00 p.m. to 4:00 p.m. (EDT). The agenda for the meeting is as follows:

Tuesday, April 30, from 1:00-4:00 p.m. EDT

I. Welcome and Introductions

II. Summary of 2016-2018 Meetings

a. Revisit Guiding Principles

b. Confirm Committee Recommendations

III. Goal for this Meeting

a. Discuss and provide recommendations on Cohort Four: Landlord Incentives in the Section 8 Housing Choice Voucher program (including research design and specific policies).

IV. BREAK

V. Policy Framework and Research Methodology—MTW Statutory Objective #3: Increase Housing Choices for Low-Income Families.

a. Cohort Four: Landlord Incentives in the Section 8 Housing Choice Voucher program—Select research design and specific policies.

VI. Revisit Cohort Three: Proposed Approach for Studying Work Requirements

VII. Update on the MTW Expansion

VIII. Public Input

IX. Summary of Discussion

X. Discuss Next Steps and Adjourn

The public is invited to call in to the meeting by using the following Conference Toll-Free Number in the United States: 1-800-230-1059 or the following International number for those outside the United States: (612) 234-9960. Please be advised that the operator will ask callers to provide their names and their organizational affiliations (if any) prior to placing callers into the conference line. Callers can expect to incur charges for calls they initiate over wireless lines and for international calls, and HUD will not refund any incurred charges. Callers will incur no charge for calls they initiate over land-line connections to the toll-free phone number. Persons with hearing impairments may also follow the discussion by first calling the Federal Relay Service (FRS) at 1-800-877-8339 and providing the FRS operator with the Conference Call Toll-Free Number: 1-800-230-1059.

Members of the public will have an opportunity to provide feedback during the call. The total amount of time for such feedback will be limited to ensure pertinent Committee business is completed. Further, the amount of time allotted to each individual commenter will be limited and will be allocated on a first-come first-served basis by HUD. If the number of commenters exceeds the available time, HUD may ask for the submission of comments via email.

Records and documents discussed during the meeting, as well as other information about the work of this Committee, will be available for public viewing as they become available at: https://www.facadatabase.gov/FACA/FACAPublicPage by clicking on “Agencies/Committees” at the top of the tool bar. These materials will also be available on the MTW Demonstration's expansion web page at: https://www.hud.gov/program_offices/public_indian_housing/programs/ph/mtw/expansion/rac. Records generated from this meeting may also be inspected and reproduced at the Department of Housing and Urban Development Headquarters in Washington, DC, as they become available, both before and after the meeting.

Outside of the work of this Committee, information about HUD's broader implementation of the MTW expansion, as well as additional opportunities for public input, can be found on the MTW Demonstration's expansion web page at: https://www.hud.gov/program_offices/public_indian_housing/programs/ph/mtw/expansion.

Dated: April 3, 2019.
R. Hunter Kurtz,
Principal Deputy Assistant, Secretary for Public and Indian Housing.
Todd Richardson,
General Deputy Assistant Secretary for Policy Development and Research.

[FR Doc. 2019-06965 Filed 4-8-19; 8:45 am]

BILLING CODE 4210-67-P